DEPARTMENT OF COMMERCE

National Oceanic and Atmospheric Administration

RIN 0648-XD319

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold meetings of its 116th Scientific and Statistical Committee (SSC) and its 160th Council meeting to take actions on fishery management issues in the Western Pacific Region. The Council will also convene meetings of the Social Science Planning Committee (SSPC), Marine Planning and Climate Change Committee (MPCC), Advisory Panels (AP), Fishing Industry Advisory Panel (FIAP), Fishery Data Collection and Research Committee (FDCRC) and the Council's Pelagic Standing Committee and Executive and Budget Standing Committee.

DATES: The meetings will be held from June 16 through June 27, 2014. For specific dates, times and agendas, see SUPPLEMENTARY INFORMATION.

ADDRESSES: The SSPC, MPCC Committee, 116th SSC, AP, FIAP, FDCRC and Standing Committee meetings will be held at the Council office, 1164 Bishop Street, Suite 1400, Honolulu, HI 96813, telephone: (808) 522-8220;

The 160th Council meeting will be held at the Laniakea YWCA-Fuller Hall, 1040 Richards Street, Honolulu, HI 96813, telephone: (808) 538-7061;

The Fishers Forum will be held at the Harbor View Center, Pier 38, 1129 North Nimitz Highway, Honolulu, HI 96817, telephone: (808) 983-1200.

Background documents will be available from, and written comments should be sent to, Mr. Arnold Palacios, Chair, Western Pacific Fishery Management Council, 1164 Bishop Street, Suite 1400, Honolulu, HI 96813, telephone: (808) 522-8220 or fax: (808) 522-8226.

FOR FURTHER INFORMATION CONTACT: Kitty M. Simonds, Executive Director; telephone: (808) 522-8220.

SUPPLEMENTARY INFORMATION: The SSPC meeting will be held on June 16, 2014, between 8:30 a.m. and 5 p.m. The MPCC will be held on June 16, 2014, between 1 p.m. and 3 p.m. The 116th SSC meeting on June 17-19, 2014 between 8:30 a.m. and 5 p.m.; the AP meeting on June 19-20, 2014, between 1 p.m. and 5 p.m. on June 19 and between 8 a.m. and 5 p.m. on June 20; the FIAP meeting on June 23, 2014 between 10 a.m. and 4 p.m.; the FDCRC meeting on June 24, 2014 between 9 a.m. and 11 a.m.; the Council's Pelagics and International Standing Committee on June 24, 2014 between 1 p.m. and 3 p.m. and Executive and Budget Standing Committee between 3 p.m. and 5 p.m. June 24, 2014; and the 160th Council Meeting will be held between 8:30 a.m. and 5 p.m. on June 25-27, 2014. In addition, the Council will host a Fishers Forum on June 25, 2014 between 6 p.m. and 9 p.m.

In addition to the agenda items listed here, the SSC and Council will hear recommendations from Council advisory groups. Public comment periods will be provided throughout the agendas. The order in which agenda items are addressed may change. The meetings will run as late as necessary to complete scheduled business.

Schedule and Agenda for the SSPC Meeting

8:30 a.m.-5 p.m., Monday, June 16, 2014

1. Introduction

2. Approval of the Agenda

3. Overview of the Council and its Fisheries

A. Council and Federally Managed Fisheries in the Western Pacific

B. Fisheries Social Science in the Region

C. Role of the Committee

4. Committee Discussion on Current and Emerging Human Dimensions Issues Related to Regional Fisheries Management

A. Fishing Communities

B. Adaptation to Potential Impacts of Climate Change

C. Integrated Assessments

D. Marine Protected Areas and Fishermen—Participation in Planning; Effects

E. Modern Socio-Cultural Importance of Fish

5. Council's Human Dimensions Program and Research Priority Planning

A. Council's 5-Year Research Priorities

B. General Priorities for the Human Dimensions Program 2015-2019

6. Other Business and Next Meeting

A. Upcoming Meeting of the Social Scientists in Regional Fisheries Management (December, 2014)

7. Public Comment

8. Committee Discussion and Recommendations

The order in which agenda items are addressed may change. The Committee will meet as late as necessary to complete scheduled business.

Schedule and Agenda for the MPCC Meeting

1 p.m.-3 p.m., Monday, June 16, 2014

1. Introduction

2. Approval of the Agenda

3. Overview of the Council and Its Fisheries

A. Council and Federally Managed Fisheries in the Western Pacific

B. Council Initiatives Related to Marine Planning

C. Council Initiatives and Actions Related to Climate Change

D. Role of the Committee

4. Committee Discussion on Current and Emerging Marine Planning and Climate Change Issues Related to Regional Fisheries Management

5. Public Comment

6. Committee Discussion and Recommendations

7. Other Business and Next Meeting

The order in which agenda items are addressed may change. The Committee will meet as late as necessary to complete scheduled business.

Schedule and Agenda for 116th SSC Meeting

8:30 a.m.-5 p.m., Tuesday, June 17, 2014

1. Introductions

2. Approval of Draft Agenda and Assignment of Rapporteurs

3. Status of the 115th SSC Meeting Recommendations

4. Report from the Pacific Islands Fisheries Science Center Director

5. Insular Fisheries

A. CNMI Bottomfish Amendment (Action Item)

B. Main Hawaiian Islands (MHI) Deep 7 Stock Assessment

C. Regulatory changes to the MHI bottomfish fishery (Action Item)

D. Main Hawaiian Island (MHI) Bottomfish Restricted Fishing Area (BRFA) Management Plan

E. Public Comment

F. SSC Discussion and Recommendations

6. Program Planning

A. Stock Assessment Prioritization Review (Action Item)

B. Specifying Acceptable Biological Catches for the Crustacean, Precious Corals, MHI Deep 7, and Hawaii Non-Deep 7 Bottomfish in the Western Pacific Region (Action Item)

C. Evaluation of 2013 Catch Relative to 2013 Annual Catch Limits (Action Item)

D. Report on the Hawaii and Joint Archipelagic Plan Team Meeting

E. Regional Strategic Plan for Fishery Data Collection and Research

F. Council 5-Year Research Priorities

1. Ecosystem and Stocks

2. Human Communities

3. Protected Species

G. Public Comment

H. SSC Discussion and Recommendations

8:30 a.m.-5 p.m., Wednesday, June 18, 2014

7. Pelagic Fisheries

A. Modification of American Samoa Large Vessel Prohibited Area (Action Item)

B. Experimental Fishing Permit—American Samoa Large Vessel Prohibited Area (Action Item)

C. Overfishing Determination for Western & Central Pacific Ocean North Pacific Striped Marlin (Action Item)

D. Longline Fisheries Quarterly Reports

1. Hawaii

2. American Samoa

E. Cost-Earning Study of Hawaii Longline Fishery

F. Bigeye Tuna Movement Workshop

G. Disproportionate Burden Workshop

H. International Fisheries

1. Inter-American Tropical Tuna Commission (IATTC) Science Committee

I. Public Comment

J. SSC Discussion and Recommendations

8. Protected Species

A. Updated Data on False Killer Whale Distribution and Stock Boundaries

B. Analysis of Impacts under the Deep-Set Longline Biological Opinion and Marine Mammal Protection Act (MMPA) Permit

C. Updates on Endangered Species Act (ESA) and MMPA Actions

1. Update on the False Killer Whale Take Reduction Plan Implementation

2. Final Determination To List 66 Species of Coral Under the ESA

3. Final Determination To List Scalloped Hammerhead Shark Under the ESA

4. Green Turtle Status Review

5. North Pacific Humpback Whale Status Review

6. Other Relevant Actions

D. Public Comment

E. SSC Discussion and Recommendations

8:30 a.m.-12 Noon, Thursday, June 19, 2014

9. Other Business

A. 117th SSC Meeting

10. Summary of SSC Recommendations to the Council

Schedule and Agenda for AP Meeting

2 p.m.-5 p.m., Thursday, June 19, 2014

1. Welcoming Remarks

2. Overview and Introductions

3. Meeting Expectations

4. Advisory Panel Review

A. Presentation of Plan

1. Membership

2. Duties and Responsibilities

3. Meetings and Reports

4. Communication and Outreach

B. 2015-18 AP Solicitation Application Review

C. Next Steps

5. Public Hearing

6. Discussion and Recommendations

8 a.m.-5 p.m., Friday, June 20, 2014

7. Report on Fishery/Community Issues and Council Support

A. American Samoa

B. Guam

C. Commonwealth of the Northern Mariana Islands (CNMI)

D. Hawaii-Pacific Remote Island Areas (PRIA)

8. Science Presentation “Status of Nearshore Stocks”

9. Council Meeting Items for Discussion and Action

A. Stock Assessment Prioritization

B. ACL Specifications

1. Crustacean, Precious Corals, Carol Reef, Hawaii Non-Deep 7 Bottomfish

2. Hawaii Deep 7 Bottomfish

3. Evaluation of ACLs and Catch

C. CNMI Bottomfish Closure Modification

D. American Samoa Large Vessel Prohibited Area

1. Proposed Modifications

2. Experimental Fishing Permit

E. Overfished Determination of Striped Marlin

F. Protected Species

1. Green Sea Turtle Management Plan

2. Update on Endangered Species Act Petitions

3. Discussion on Nearshore Interactions With Protected Species

10. Other Business

11. Public Hearing

12. Discussion and Recommendations

Schedule and Agenda for FIAP Meeting

10 a.m.-4 p.m., Monday, June 23, 2014

1. Welcome and Introductions

2. Overview of the Fishing Industry Advisory Panel Role and Responsibilities

3. Council 5 Year Program Plan

4. Magnuson Stevens Act Reauthorization

5. Round Table Discussion on Fishing and Seafood Industry Issues

A. American Samoa

B. CNMI

C. Guam

D. Hawaii

6. Pelagics and International Management

A. International Management—Illegal, Unregulated and Unreported (IUU) Impact on Domestic Markets

B. Billfish Act

C. Shark Fisheries and Shark-Finning

D. Ahi Minimum Size

7. Seafood Issues

A. NOAA Seafood Certification

B. 50% by 5 Initiative

8. Bottomfish Management

9. Protected Species Issues

A. Marine Mammals

B. Status of Humpback Whale and Green Sea Turtle Delistings

10. Fisheries Development

11. Other Business

12. Public Comment

13. Discussion and Recommendations

Schedule and Agenda for FDCRC Meeting

9 a.m.-11 a.m., Tuesday, June 24, 2014

1. Welcome Remarks

2. Introductions

3. Appointment of the FDCRC Chair

4. Review of the Standard Operating Policy and Procedures

5. Report on the Inaugural Meeting of the FDCRC Technical Committee

6. Regional Strategic Plan for Fishery Data Collection and Research

7. Endorsement and Signing of the Strategic Plan

8. Discussions and Recommendations

Schedule for Council Standing Committee Meetings

1 p.m.-3 p.m., Tuesday, June 24, 2014

Executive and Budget Standing Committee

3 p.m.-5 p.m., Tuesday, June 24, 2014

Program Planning Standing Committee

Schedule and Agenda for 160th Council Meeting

8:30 a.m.-5 p.m., Wednesday, June 25, 2014

1. Welcome and Introductions

2. Opening Remarks

3. Approval of the 160th Agenda

4. Approval of the 159th Meeting Minutes

5. Executive Director's Report

6. Agency Reports

A. National Marine Fisheries Service

1. NMFS Agency Report

2. Pacific Islands Regional Office

3. Pacific Islands Fisheries Science Center (PIFSC)

B. NOAA General Counsel, Pacific Island Section

C. U.S. Fish and Wildlife Service

D. Enforcement

1. U.S. Coast Guard

2. NMFS Office for Law Enforcement

3. NOAA General Counsel for Enforcement

E. Public Comment

F. Council Discussion and Action

7. Program Planning and Research

A. Stock Assessment Prioritization Review (Action Item)

B. Specifying Annual Catch Limits for the Crustacean, Precious Corals, Coral Reef, Hawaii Non-Deep 7 Bottomfish in the Western Pacific Region (Action Item)

D. Evaluation of 2013 Catch Relative to 2013 ACLs (Action Item)

E. Proposed NOAA Recreational Saltwater Fishing Policy

F. Council 5-Year Research Priorities

1. Ecosystem and Stocks

2. Human Communities

3. Protected Species

G. Marine Fisheries Advisory Committee (MAFAC) National Seafood Certification

H. National, Regional and International Education

I. Advisory Group Reports and Recommendations

1. Joint Archipelagic Plan Team

2. Joint Advisory Panel

3. Fishery Data Collection and Research Committee

4. Fishing Industry Advisory Committee

5. Report of the Social Science Research Committee

6. Marine Planning and Climate Change Committee

J. SSC Recommendations

K. Public Hearing

L. Council Discussion and Action

6 p.m.-9 p.m., Wednesday, June 25, 2014

Fishers Forum on Non-Commercial Fishing & Recreational Saltwater Fishing Policy Listening Session

8:30 a.m.-5 p.m., Thursday, June 26, 2014

8. American Samoa Archipelago

A. Motu Lipoti

B. Fono Report

C. Enforcement Issues

D. Community Activities and Issues

1. Update on Community Fisheries Development

2. Seafood Market Training Workshop

E. Fishery Disaster Relief Funds

F. Marine Conservation Plan

G. Education and Outreach Initiatives

H. American Samoa National Marine Sanctuary

I. Rose Atoll Marine National Monument

J. Advisory Group Reports and Recommendations

1. American Samoa Regional Ecosystem Advisory Committee

2. Joint AP

3. Joint Archipelagic Plan Team

4. FIAC

5. SSRC

6. MPCC

K. SSC Recommendations

L. Public Comment

M. Council Discussion and Action

9. Hawaii Archipelago

A. Moku Pepa

B. Legislative Report

C. Enforcement

D. Main Hawaiian Island (MHI) Bottomfish

1. Report on MHI Bottomfish Stock Assessment

2. Deep-7 ACL Specification (Action Item)

3. State of Hawaii Bottomfish Restricted Fishing Areas (BRFAs) Management Plan

4. Regulatory Changes for MHI Bottomfish (Action Item)

E. Community Projects, Activities and Issues

1. Supporting the Aha Moku System

2. Outreach and Education Report

F. Hawaiian Humpback Whale National Marine Sanctuary

G. Papahanaumokuakea Marine National Monument

H. Habitat Blue Print—West Hawaii

I. Joint AP

1. Hawaii Plan Team

2. Archipelagic Plan Team

3. FIAC

5. SSRC

6. MPCC

J. SSC Recommendations

K. Public Comment

L. Council Discussion and Action

10. Protected Species

A. Updated Data on False Killer Whale Distribution and Stock Boundaries

B. Analysis of Impacts under the Deep-set Longline Biological Opinion and MMPA Permit

C. Updates on ESA and MMPA Actions

1. Update on the False Killer Whale Take Reduction Plan Implementation

2. Final Determination to List 66 Species of Coral as Endangered or Threatened under the ESA

3. Final Determination to List Scalloped Hammerhead Shark under the ESA

4. Green Turtle Status Review

5. North Pacific Humpback Whale Petition

6. Other Relevant Actions

D. Management of Green Sea Turtles

E. Advisory Group Recommendations

1. Joint AP

2. Pelagic PT

3. Archipelagic PT

4. FIAC

5. SSRC

6. MPCC

F. SSC Recommendations

G. Public Comment

H. Council Discussion and Action

11. Public Comment on Non-Agenda Items

9 a.m. to 5 p.m., Friday June 27, 2014

12. Mariana Archipelago

A. Guam

1. Isla Informe

2. Legislative Report

3. Enforcement Issues

4. Report on Guam Projects and Programs

a. Fisheries Development Projects

b. Data Collection Projects

5. Habitat Blue Print—Manell-Gues

B. Commonwealth of the Northern Mariana Islands

1. Arongol Falu

2. Legislative Report

3. Enforcement Issues

4. Bottomfish Area Closure Modification (Action Item)

5. Status Report on CNMI Projects and Programs

a. Data Collection Efforts

C. Guam and CNMI Marine Conservation Plans

D. Marianas Trench Marine National Monument: Islands, Volcanic and Trench Units

E. Education and Outreach Initiatives

F. Advisory Group Reports and Recommendations

1. Joint AP

2. Archipelagic PT

3. FIAC

4. SSRC

5. MPCC

G. SSC Recommendations

H. Public Hearing

I. Council Discussion and Action

13. Pelagic & International Fisheries

A. Modification to the American Samoa large vessel prohibited area (Action Item)

B. Experimental Fishing Permit—American Samoa Large Vessel Prohibited Area (Action Item)

C. Overfished determination for WCPO NP striped marlin (Action Item)

D. Longline Fisheries Quarterly Reports

1. Hawaii

2. American Samoa

E. Bigeye Tuna Movement Workshop

F. Disproportionate Burden Workshop

G. International Fisheries

1. IATTC Science Committee

H. Advisory Group Recommendations

1. Joint AP

2. Pelagic PT

3. FIAC

4. SSRC

5. MPCC

I. SSC Recommendations

J. Standing Committee Recommendations

K. Public Hearing

L. Council Discussion and Recommendations

14. Administrative Matters

A. Financial Reports

B. Administrative Reports

C. Standard Operating Practices and Procedures (SOPP) Review and Changes

D. Council Family Changes

E. Advisory Panel Review and Plan

F. Meetings and Workshops

1. May Council Coordinating Committee

G. Report on Magnuson-Stevens Act (MSA) Reauthorization

H. Other Business

I. Standing Committee Recommendations

J. Public Comment

K. Council Discussion and Action

15. Other Business

Non-Emergency issues not contained in this agenda may come before the Council for discussion and formal Council action during its 160th meeting. However, Council action on regulatory issues will be restricted to those issues specifically listed in this document and any regulatory issue arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: May 27, 2014.
William D. Chappell,
Acting Deputy Director, Office of Sustainable Fisheries, National Marine Fisheries Service.

[FR Doc. 2014-12615 Filed 5-30-14; 8:45 am]

BILLING CODE 3510-22-P